DEPARTMENT OF THE INTERIOR

Bureau of Land Management

[ID-070-1150-PG]

Notice of Public Meeting, Upper Snake River Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Snake River Resource Advisory Council (RAC), will meet as indicated below.

DATES: The meeting will be held November 19 and 20, 2003 at the BLM Pocatello Field Office, 4350 Cliffs Drive, in Idaho Falls, Idaho. The meeting will start November 19 at 10 a.m., with the public comment period beginning at approximately 1 p.m. The meeting will adjourn on November 20 at or before 5 p.m.

SUPPLEMENTARY INFORMATION: The 15-member Council advises the Secretary of the Interior, through the Bureau of Land Management, on a variety of planning and management issues associated with public land management in the BLM Upper Snake River District (USRD), which covers south-central and southeast Idaho. At this meeting, topics we plan to discuss include:

Orientation for new members of the RAC.

Election of new RAC Officers for the 2003-2004 term.

The RAC's work plan for the coming year.

Updates on major planning projects in the USRD, including coordination of subgroups.

Updates on the Director's Sustaining Working Landscapes Initiative, and the RAC's feedback to the BLM State Director.

An update on the Idaho BLM's proposed organizational refinements.

Brief overviews on other BLM programs: Wild Horse and Burros, and Abandoned Mine Lands.

Other items of interest raised by the Council.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

The meetings for 2004 will also be set at this meeting, and the dates and times will be announced in a future Federal Register Notice and through local media.

FOR FURTHER INFORMATION CONTACT: David Howell, RAC Coordinator, Upper Snake River District, 1405 Hollipark Dr., Idaho Falls, ID 83401. Telephone (208) 524-7559.

Dated: October 20, 2003.
David O. Howell,
Public Affairs Specialist.

[FR Doc. 03-26838 Filed 10-23-03; 8:45 am]

BILLING CODE 4310-GG-P